DEPARTMENT OF COMMERCE

Census Bureau

Census 2000 Evaluation of Non-English Speaking Respondents

ACTION: Proposed collection; Comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(C)(2)(A)).

DATES: Written comments must be submitted on or before March 20, 2000.

ADDRESSES: Direct all written comments to Linda Engelmeier, Departmental Forms Clearance Officer, Department of Commerce, Room 5027, 14th and Constitution Avenue, NW, Washington, DC 20230 (or via the Internet at LEngelme@doc.gov).

FOR FURTHER INFORMATION CONTACT: Requests for additional information or copies of the information collection instrument(s) and instructions should be directed to Erin Whitworth, U.S. Census Bureau, SFC-2, Rm. 2228, Washington, DC, 20233-0001, 301-457-8024, Erin.M.Whitworth@ccmail.census.gov.

SUPPLEMENTARY INFORMATION:

Abstract

The Census Bureau must provide everyone living or staying in the United States on Census Day the opportunity to be counted in Census 2000. Many programs for non-English speaking respondents have been developed to assist in questionnaire response. These programs include questionnaires and Be Counted forms in Spanish, Korean, Chinese, Tagalog, and Vietnamese; Questionnaire Assistance Centers (QACs), which provide Language Assistance Guides (LAGs) in 49 additional languages; bilingual enumerators during follow-up operations, and Telephone Questionnaire Assistance (TQA) in Spanish, Korean, Chinese, Tagalog, and Vietnamese. The Census Bureau anticipates that many of the non-English speaking respondents will use these programs. However, others may not use these programs for a variety of different reasons (i.e., lack of awareness, fear, apathy, etc.).

The U.S. Census Bureau would like to better understand how non-English speaking respondents cope with the Census. To do this the Census Bureau is proposing to conduct a follow-up interview of long-form respondents that indicate they speak a language other than English at home. The types of information collected during the interview will address their awareness of the QACs, Be Counted forms, and LAGs; their ability to have completed the questionnaire on their own (i.e. did the non-English speaking respondent obtain help from a neighbor or someone else that speaks English?); and the language of the interview in Nonresponse Follow-up (NRFU).

II. Method of Collection

The reinterview will be conducted by telephone with specially trained bilingual interviewers. A telephone reinterview of approximately 5,000 cases will be conducted to result in approximately 1,000 completed cases for each of three languages. The reinterview will be done in Spanish, one language to be selected from the remaining four in which there are non-English questionnaires (Korean, Chinese, Tagalog, and Vietnamese), and one other language to be selected from those that have no non-English questionnaires. We plan to select the language groups for which the census process is expected to be most difficult based on linguistic isolation and other potential barriers to enumeration. The prevalence of the non-English language will also be a decision factor. The sample will be post-stratified based on the mode of response (i.e., English form, non-English form, or enumerator form). We will conduct this operation in two waves with the first wave composed of those respondents returning a form through the mail, and the second wave composed of those respondents enumerated in NRFU. In the reinterview, we will attempt to determine: (1) If the respondents were aware of the QACs, LAGs, and Be Counted Forms, (2) Why the respondents did or did not use those services, and (3) For those responding in English yet indicating they do not speak English well, it is desired to know from whom they obtained assistance. The interviews will be performed May-July 2000, after the availability of the appropriate data files from which the sample will be obtained.

III. Data

OMB Number: Not available.

Form Number: Not available.

Type of Review: Regular Submission.

Affected Public: Individuals.

Estimated Number of Respondents: 5000.

Estimated Time per Response: 20 minutes.

Estimated Total Annual Burden Hours: 1,667 hours.

Estimated Total Annual Cost: There is no cost to the respondent other than the time to provide the requested information.

Respondent's Obligation: Voluntary.

Legal Authority: Title 13, United States Code, Sections 141 and 193.

IV. Request for Comments

Comments are invited on: (a) Whether the proposed collection of information is necessary for the proper performance of the functions of the agency, including whether the information shall have a practical utility; (b) the accuracy of the agency's estimate of the burden (including hours and cost) of the proposed collection of information; (c) ways to enhance the quality, utility, and clarity of the information to be collected; and (d) ways to minimize the burden of the collection of information on respondent; including through the use of automated collection techniques or other forms of information technology.

Comments submitted in response to this notice will be summarized and/or included in the request for OMB approval of this information collection; they also will become a matter of public record.

Dated: January 12, 2000.
Madeleine Clayton,
Management Analyst,
Office of the Chief Information Officer.

[FR Doc. 00-1061 Filed 1-14-00; 8:45 am]

BILLING CODE 3510-07-P